DEPARTMENT OF ENERGY

Federal Energy Regulatory Commission

[Project No. 5730-018]

River Bounty, Inc.; Notice of Termination of Exemption By Implied Surrender and Soliciting Comments, Motions To Intervene, and Protests

Take notice that the following hydroelectric application has been filed with the Commission and is available for public inspection:

a. Application Type: Termination of exemption by implied surrender.

b. Project No: 5730-018.

c. Date Initiated: October 3, 2011.

d. Exemptee: River Bounty, Inc.

e. Name of Project: Oakland Hydroelectric Project.

f. Location: Susquehanna River in Susquehanna County, Pennsylvania.

g. Filed Pursuant to: 18 CFR 4.106.

h. Applicant Contact: Myron B. DeWitt, DeWitt & Cordner, P.O. Box 244, Susquehanna, PA 18847.

i. FERC Contact: Rebecca Martin, (202) 502-6012, Rebecca.martin@ferc.gov.

j. Deadline for filing comments, motions to intervene, and protests: November 4, 2011.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-5730-018) on any comments or motions filed.

k. Description of Existing Facilities: The Oakland project consists of an 18-foot high by 655-foot long rock-filled timber crib structure with a concrete cap and a powerhouse containing three units. Currently, there is a 50- to 60-foot-wide breach in the dam. The project has not operated since 2000.

l. Description of Proceeding: Since 2000, the exemptee has not operated the Oakland Project because it lost its power sales contract. Since that time, the powerhouse, abutment wall, tailrace wall, and dam have fallen into disrepair, and no progress has been made to return the project to operational condition. Over the past 11 years, the Commission has directed the exemptee to either make repairs to the project to make it operational, or to file an application to surrender the project. Although the exemptee has responded to Commission requests by repeatedly providing plans and schedules to repair the project, no actual physical work has been done. During the summer of 2007, the dam developed a large hole, allowing most of the water to flow through this section. In April 2008, the breach expanded leaving a 50- to 60-foot-wide opening in the dam.

In April 2011, the Commission again requested a detailed plan and schedule to repair or surrender the project. On April 20, 2011, River Bounty filed a lease agreement transferring the exemption to Renew Hydro, LLC that was conditional on the project becoming operational. On August 18, 2011, the Commission notified the exemptee that it could not approve a conditional lease. Therefore on September 19, 2011, the Commission notified the exemptee that because it appears the exemptee is unable or unwilling to restore the project to operation, the Commission would begin implied surrender proceedings.

m. Locations of the Documents: Documents relating to this notice are available for inspection and reproduction at the Commission's Public Reference Room, located at 888 First Street, NE., Room 2A, Washington, DC 20426, or by calling (202) 502-8371. These filings may also be viewed on the Commission's Web site at http://www.ferc.gov using the “eLibrary” link. Enter the docket number excluding the last three digits in the docket number field (P-5730) to access the document. You may also register online at http://www.ferc.gov/docs-filing/esubscription.asp to be notified via e-mail of new filings and issuances related to this or other pending projects. For assistance, call 1-866-208-3676 or e-mail FERCOnlineSupport@ferc.gov, for TTY, call (202) 502-8659.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) Bear in all capital letters the title “Comments”, “Protest”, or “Motion to Intervene” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: October 4, 2011.
Kimberly D. Bose,
Secretary.

[FR Doc. 2011-26232 Filed 10-11-11; 8:45 am]

BILLING CODE 6717-01-P